DEPARTMENT OF AGRICULTURE

Animal and Plant Health Inspection Service

[Docket No. 04-101-1]

Notice of Request for Approval of an Information Collection

AGENCY: Animal and Plant Health Inspection Service, USDA.

ACTION: New information collection; comment request.

SUMMARY: In accordance with the Paperwork Reduction Act of 1995, this notice announces the Animal and Plant Health Inspection Service's intention to initiate a new information collection associated with health certificates for the export of live crustaceans, finfish, mollusks, and related products.

DATES: We will consider all comments that we receive on or before February 1, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 04-101-1, Regulatory Analysis and Development, PPD, APHIS, Station 3C71, 4700 River Road Unit 118, Riverdale, MD 20737-1238. Please state that your comment refers to Docket No. 04-101-1.

• E-mail: Address your comment to regulations@aphis.usda.gov. Your comment must be contained in the body of your message; do not send attached files. Please include your name and address in your message and “Docket No. 04-101-1” on the subject line.

• Agency Web site: Go to http://www.aphis.usda.gov/ppd/rad/cominst.html for a form you can use to submit an e-mail comment through the APHIS Web site.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: For information on health certificates for the export of live crustaceans, finfish, mollusks, and related products, contact Ms. Jill B. Rolland, Fishery Biologist, Certification and Control Team, National Center for Animal Health Programs, VS, APHIS, 4700 River Road Unit 46, Riverdale, MD 20737; (301) 734-6479. For copies of more detailed information on the information collection, contact Mrs. Celeste Sickles, APHIS' Information Collection Coordinator, at (301) 734-7477.

SUPPLEMENTARY INFORMATION: Title: Health Certificates for Export of Live Crustaceans, Finfish, Mollusks, and Related Products.

OMB Number: 0579-XXXX.

Type of Request: Approval of a new information collection.

Abstract: The export of agricultural commodities, including animals and animal products, is a major business in the United States and contributes to a favorable balance of trade. The Animal and Plant Health Inspection Service (APHIS) of the U.S. Department of Agriculture (USDA) maintains information regarding the import health requirements of other countries for animals and animal products exported from the United States.

Many countries that import animals or animal products from the United States require a certification that the United States is free of certain diseases. These countries may also require the certification statement to contain additional declarations regarding the U.S. animals or products being exported.

The regulations governing the export of animals and products from the United States are contained in 9 CFR part 91, subchapter D, “Exportation and Importation of Animals (Including Poultry) and Animal Products,” and apply to farm-raised aquatic animals and products, as well as other livestock and products. These regulations are authorized by the Animal Health Protection Act (7 U.S.C. 8301-8317).

The National Marine Fisheries Service (NMFS), National Oceanic and Atmospheric Administration, U.S. Department of Commerce, and the Fish and Wildlife Service (FWS), U.S. Department of the Interior, as well as APHIS, have legal authorities and responsibilities related to aquatic animal health in the United States. All three agencies have, therefore, entered into a memorandum of understanding delineating their respective responsibilities in the issuance of health certificates for the export of live aquatic animals and animal products.

As a result of these shared responsibilities, three new health certificates have been developed that will bear the logo of all three agencies. The certificates can be used by all three agencies for export health certifications for live crustaceans, finfish, mollusks, and their related products from the United States. In order for the agencies to complete these certificates, exporters must provide the names of the species being exported from the United States, their age and weight, if applicable, whether they are cultured stock or wild stock, their place of origin, their country of destination, and the date and method of transport. The certificates will be completed by an accredited inspector (in the case of FWS or NMFS) or accredited veterinarian (in the case of APHIS) and must be signed by either the accredited inspector or accredited veterinarian who inspects the animals or products prior to their departure from the United States, as well as the appropriate Federal official (from either APHIS, FWS, or NMFS) who certifies the health status of the shipment being exported.

By endorsing the health certificate, these officials are certifying that (1) the aquatic animals or products in the consignment have been produced in a country, zone, or aquaculture establishment that has been subjected to a health surveillance scheme recommended by the Office International des Epizooties (the world animal health organization); and (2) the country, zone, or aquaculture establishment is officially recognized as being free from all of the pathogens causing the diseases identified on the specific health certificate being endorsed. (Each of the three health certificates lists a variety of diseases, depending on whether the certificate is for crustaceans, finfish, or mollusks.)

We are asking the Office of Management and Budget (OMB) to approve our use of this information collection activity for 3 years.

The purpose of this notice is to solicit comments from the public (as well as affected agencies) concerning this information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.5 hours per response.

Respondents: Accredited inspectors or accredited veterinarians who complete the health certificates and producers who provide information for the health certificates to the accredited inspectors or accredited veterinarians.

Estimated annual number of respondents: 100.

Estimated annual number of responses per respondent: 30.

Estimated annual number of responses: 3,000.

Estimated total annual burden on respondents: 1,500 hours. (Due to averaging, the total annual burden hours may not equal the product of the annual number of responses multiplied by the reporting burden per response.)

All responses to this notice will be summarized and included in the request for OMB approval. All comments will also become a matter of public record.

Done in Washington, DC, this 24th day of November 2004.
Elizabeth E. Gaston,
Acting Administrator, Animal and Plant Health Inspection Service.

[FR Doc. 04-26592 Filed 12-2-04; 8:45 am]

BILLING CODE 3410-34-P